DEPARTMENT OF DEFENSE

Department of the Navy

Notice of Record of Decision for Atlantic Fleet Active Sonar Training

AGENCY: Department of the Navy, DoD.

ACTION: Notice.

SUMMARY: The Department of the Navy (DON), after carefully weighing the operational and environmental consequences of the proposed action, announces its decision to designate areas along the East Coast of the United States and in the Gulf of Mexico where mid- and high-frequency active (MFA and HFA) sonar and the improved extended echo ranging (IEER) system training; maintenance; and research, development, test, and evaluation (RDT&E) activities will occur, and to conduct these activities. The Navy's decision regarding MFA sonar activities includes the advanced extended echo ranging (AEER) system as a replacement for the IEER system. The Navy considered applicable executive orders, including an analysis of the environmental effects of its actions outside the United States or its territories under Executive Order (EO) 12114, Environmental Effects Abroad of Major Federal Actions, and the requirements of EO 12898, Federal Actions to Address Environmental Justice in Minority Populations and Low Income Populations.

The proposed action will be accomplished as set forth in the No-Action Alternative, described in the Final Environmental Impact Statement/Overseas Environmental Impact Statement (EIS/OEIS) as the preferred alternative. Implementation of the preferred alternative could begin immediately. The preferred alternative represents the active sonar training and RDT&E activities necessary for Navy to meet its Title 10 obligation to organize, train, equip and maintain combat-ready naval forces and to successfully fulfill its current and future global mission of winning wars, deterring aggression, and maintaining freedom of the seas.

SUPPLEMENTARY INFORMATION: The Record of Decision (ROD) has been distributed to all those individuals who requested a copy of the Final EIS/OEIS and agencies and organizations that received a copy of the Final EIS/OEIS. The complete text of the Navy's ROD is available for public viewing on the project Web site at http://www.afasteis.gcsaic.com, along with copies of the Final EIS/OEIS and supporting documents. Single copies of the ROD will be made available upon request by contacting Naval Facilities Engineering Command, Atlantic, Attention: Code EV22 (AFAST Project Manager), 6506 Hampton Boulevard, Norfolk, VA 23508-1278.

Dated: January 27, 2009.
A. M. Vallandingham
Lieutenant Commander, Judge Advocate General's Corps, U.S. Navy, Federal Register Liaison Officer.

[FR Doc. E9-2052 Filed 1-29-09; 8:45 am]

BILLING CODE 3810-FF-P